DEPARTMENT OF COMMERCE

National Oceanic and Atmospheric Administration

50 CFR Part 648

[Docket No. 160301164-6694-02]

RIN 0648-XF883

Fisheries of the Northeastern United States; Northeast Skate Complex; Adjustment to the Skate Wing Inseason Possession Limit

AGENCY: National Marine Fisheries Service (NMFS), National Oceanic and Atmospheric Administration (NOAA), Commerce.

ACTION: Temporary rule; inseason adjustment.

SUMMARY: NMFS announces the reduction of the commercial skate wing fishery per-trip possession limit for the remainder of the 2017 fishing year, through April 30, 2018. This possession limit reduction is necessary to prevent the skate wing commercial quota from being exceeded, while still allowing the opportunity to harvest the annual total allowable landings. This announcement also informs the public that the skate wing possession limit is reduced.

DATES: Effective December 27, 2017, through April 30, 2018.

FOR FURTHER INFORMATION CONTACT: Cynthia Hanson, Fishery Management Specialist, (978) 281-9180, or Cynthia.Hanson@noaa.gov.

SUPPLEMENTARY INFORMATION: The skate wing and bait fisheries are managed through the Northeast Skate Complex Fishery Management Plan; the regulations for which are found at 50 CFR part 648, subpart O. Regulations at § 648.322(b)(2) describe the process of adjusting the commercial possession limit of skate wings. When 85 percent of the annual total allowable landings (TAL) for skate wing fishery is projected to be harvested, the NMFS Greater Atlantic Regional Administrator may reduce the skate wing possession limit to the incidental limit, unless the reduction would be expected to prevent attainment of the annual TAL. The initial skate wing possession limit is 4,100 lb (1,860 kg) of wings (9,307 lb (4,222 kg) whole weight). When the 85-percent trigger is reached, this is reduced to the incidental limit of and 500 lb (227 kg) of wings (1,135 lb (515 kg) whole weight). We anticipate that implementing this inseason adjustment will allow the opportunity for the skate wing fishery to harvest the annual TAL while reducing the possibility of exceeding it.

Based on commercial landings data reported through December 2, 2017, we project the skate wing fishery to reach 85 percent of the annual TAL (18.46 million lb, 8,372 mt) on or about December 11, 2017. Furthermore, without adjustment, there is a high probability that skate wing landings will exceed the TAL before the end of the fishing year. Therefore, consistent with § 648.322(b)(2), we are reducing the skate wing possession limit from 4,100 lb (1,860 kg) of skate wings (9,307 lb (4,222 kg) whole weight) to 500 lb (227 kg) of skate wings (1,135 lb (515 kg) whole weight) per trip. At the request of industry to allow adequate time for safe gear removal, we are affording a 14-day notice period before implementing this reduction. Effective December 27, 2017, no person may possess on board or land more than 500 lb (227 kg) of skate wings (1,135 lb (515 kg) whole weight), or any prorated combination of skate wings and whole skates based on the conversion factor for wing weight to whole weight of 2.27, per trip for the remainder of the 2017 fishing year. This action does not affect vessels fishing under a skate bait letter of authorization. On May 1, 2018, the 2018 fishing year begins, and the commercial skate wing possession limit will increase to the skate wing season 1 (May 1, 2018, to August 31, 2018) possession limit of 2,600 lb (1,179 kg) of skate wings (5,902 lb (2,677 kg) whole weight) per trip.

Classification

This action is taken under 50 CFR part 648 and is exempt from review under Executive Order 12866.

The Assistant Administrator for Fisheries, NOAA, finds good cause pursuant to 5 U.S.C. 553(b)(B) to waive prior notice and the opportunity for public comment because it would be contrary to the public interest. This action lowers the possession limit for the commercial skate wing fishery to the incidental limit in order to prevent the annual quota from being exceeded, while still allowing the opportunity to harvest the annual TAL. The regulations at § 648.322(b)(2) allow such action when landings reach a trigger of 85 percent of the annual TAL to ensure this TAL is not exceeded. If implementation of this reduction were delayed to solicit prior public comment, the quota for this fishing year would likely be exceeded, thereby undermining the conservation objectives of the Northeast Skate Complex Fishery Management Plan. The Assistant Administrator further finds, pursuant to 5 U.S.C. 553(d)(3), good cause to waive the 30-day delayed effectiveness period for the reason stated above.

Authority: 16 U.S.C. 1801 et seq.

Dated: December 12, 2017.
Emily H. Menashes,
Acting Director, Office of Sustainable Fisheries, National Marine Fisheries Service.

[FR Doc. 2017-27082 Filed 12-12-17; 4:15 pm]

BILLING CODE 3510-22-P